DEPARTMENT OF HEALTH AND HUMAN SERVICES

Centers for Disease Control and Prevention

[Program Announcement AA134]

Strengthening HIV/AIDS, TB and STI Prevention, Control and Treatment Activities Within the Police Force of Ethiopia; Notice of Intent To Fund Single Eligibility Award

A. Purpose

The Centers for Disease Control and Prevention (CDC) announces the intent to fund fiscal year (FY) 2005 funds for a cooperative agreement program to strengthen the activities in the prevention, control, and treatment of HIV/AIDS, Sexually Transmitted Infections (STI) and Tuberculosis (TB) within the Police Force of Ethiopia. The project particularly aims to: (1) Improve HIV/AIDS, STI and TB prevention following the Abstinence, Be Faithful, and Correct and Consistent Condom Use (ABC) strategies, care and treatment services within the Police Force of Ethiopia; (2) strengthen human resource capacity of the police force for HIV/AIDS/STI/TB services; and (3) implement and support targeted monitoring and evaluation. The Catalog of Federal Domestic Assistance number for this program is 93.067.

B. Eligible Applicant

Assistance will be provided only to the FPC of the Federal Democratic Republic of Ethiopia for this project.

The FPC of Ethiopia is the most appropriate and qualified agency to conduct the activities because:

1. FPC's HIV Prevention and Control Office is the only office uniquely positioned in terms of legal authority, ability, and credibility to coordinate and support prevention, care, and treatment activities among members of the police force and their dependents.

2. The FPC administers all the police force health facilities which constitute the only facilities where members of the police force and their dependents receive care.

3. FPC is the umbrella entity that can access the police force and their dependents at the national and regional levels.

4. FPC is mandated by the Federal Government of Ethiopia to work on HIV/AIDS in behalf of the police force and their dependants with international organizations and civil societies in the prevention and control of HIV/AIDS.

5. The Police Hospital is the only referral hospital for the police and their dependants in the country playing a leading role in providing an integrated and comprehensive HIV/AIDS treatment and care and serving also as a major training center for all cadres of health care professionals deployed at the police force health facilities in the country that also integrate training, service and research.

C. Funding

Approximately $140,000 is available in FY 2005 to fund this award on September 15, 2005, and will be made for a 12-month budget period within a project period of up to five years. Funding estimates may change.

D. Where To Obtain Additional Information

For general comments or questions about this announcement, contact: Technical Information Management, CDC Procurement and Grants Office, 2920 Brandywine Road, Atlanta, GA 30341-4146. Telephone: 770-488-2700.

For technical questions about this program, contact: Tadesse Wuhib, MD, MPH, Country Director, CDC-Ethiopia, P.O. Box 1014, Entoto Road, Addis Ababa. Telephone: (Office) 251-1-66-95-33; (Cell) 251-9-228543. E-mail address: wuhibt@etcdc.com.

Dated: August 4, 2005.
William P. Nichols,
Director, Procurement and Grants Office, Centers for Disease Control and Prevention.

[FR Doc. 05-15894 Filed 8-10-05; 8:45 am]

BILLING CODE 4163-18-P